DEPARTMENT OF HOMELAND SECURITY

Coast Guard

[Docket No. USCG-2018-0498]

Collection of Information Under Review by Office of Management and Budget; OMB Control Number: 1625-0071

AGENCY: Coast Guard, DHS.

ACTION: Thirty-Day notice requesting comments.

SUMMARY: In compliance with the Paperwork Reduction Act of 1995 the U.S. Coast Guard is forwarding an Information Collection Request (ICR), abstracted below, to the Office of Management and Budget (OMB), Office of Information and Regulatory Affairs (OIRA), requesting approval for reinstatement, with changes, of the following collection of information: 1625-0071, Recreational Boat Safety Defect Report, previously titled Boat Owner's Report, Possible Safety Defect Report. Our ICR describes the information we seek to collect from the public. This request provides a second 30-day comment period addressing the changes we made in response to public comments that we received on the last notice requesting comments. Review and comments by OIRA ensure we only impose paperwork burdens commensurate with our performance of duties.

DATES: Comments must reach the Coast Guard and OIRA on or before November 12, 2019.

ADDRESSES: You may submit comments identified by Coast Guard docket number [USCG-2018-0498] to the Coast Guard using the Federal eRulemaking Portal at https://www.regulations.gov. Alternatively, you may submit comments to OIRA using one of the following means:

(1) Email: OIRA-submission@omb.eop.gov.

(2) Mail: OIRA, 725 17th Street NW, Washington, DC 20503, attention Desk Officer for the Coast Guard.

(3) Fax: 202-395-6566. To ensure your comments are received in a timely manner, mark the fax, attention Desk Officer for the Coast Guard.

A copy of the ICR is available through the docket on the internet at https://www.regulations.gov. Additionally, copies are available from: COMMANDANT (CG-612), ATTN: PAPERWORK REDUCTION ACT MANAGER, U.S. COAST GUARD, 2703 MARTIN LUTHER KING JR. AVE. SE, STOP 7710, WASHINGTON, DC 20593-7710.

FOR FURTHER INFORMATION CONTACT: Mr. Anthony Smith, Office of Information Management, telephone 202-475-3532, or fax 202-372-8405, for questions on these documents.

SUPPLEMENTARY INFORMATION:

Public Participation and Request for Comments

This notice relies on the authority of the Paperwork Reduction Act of 1995; 44 U.S.C. chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. Consistent with the requirements of Executive Order 13771, Reducing Regulation and Controlling Regulatory Costs, and Executive Order 13777, Enforcing the Regulatory Reform Agenda, the Coast Guard is also requesting comments on the extent to which this request for information could be modified to reduce the burden on respondents. These comments will help OIRA determine whether to approve the ICR referred to in this notice.

We encourage you to respond to this request by submitting comments and related materials. Comments to Coast Guard or OIRA must contain the OMB Control Number of the ICR. They must also contain the docket number of this request, [USCG-2018-0498], and must be received by November 12, 2019.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and the docket, you may review a Privacy Act notice regarding the Federal Docket Management System in the March 24, 2005, issue of the Federal Register (70 FR 15086).

OIRA posts its decisions on ICRs online at http://www.reginfo.gov/public/do/PRAMain after the comment period for each ICR. An OMB notice of Action on each ICR will become available via a hyperlink in the OMB Control Number: 1625-0071.

Previous Request for Comments

The Coast Guard published a 60-day notice (84 FR 5459, February 21, 2019) and a 30-day notice (84 FR 19097, May 3, 2019) requesting comments, as required by 44 U.S.C. 3506(c)(2). The 30-day notice elicited two comments which can be viewed at https://www.regulations.gov in the docket USCG-2018-0498. This request provides a second 30-day comment period to address the public comments that we received and to solicit comments on the changes we made to the information collection request in response to the comments.

The first commenter noted that there is a workgroup developing recommendations for improving recreational boating incident reporting and opening communication between the Coast Guard and all levels of enforcement. The commenter noted that the current form requires the owner of the vessel to fill out the form and submit it to the Coast Guard, but there is no efficient way for the states to require recreational boat owners who are unwilling or unable to submit the safety defect report to the Coast Guard.

The Coast Guard supports allowing additional entities to report safety defects, and proposes to change the name of the report from “Consumer Safety Defect Report” to “Recreational Boat Safety Defect Report”. The respondants for this new form will expand from receiving information from consumers (boat owners) to receiving information from any source, including boat owners, law enforcement, marine investigators, boat manufacturers, and the public. We will change the “who is reporting” section of the form to include places for names, addresses, and contact info for a company or agency and add check boxes for these additional sources to identify themselves as on the report, such as owner, manufacturer, law enforcement officer, investigator, and other. We will also collect vessel type, hull material, propulsion type, engine drive type and fuel using the 33 CFR 173/174 terms for those categories.

The second commenter said that the reporting form should not have negative financial impacts on small business, service providers, or individuals and that someone should compensate these entities for their research. The commenter also noted that associated equipment can be dangerous to owners and operators. We agree that defective equipment is dangerous to vessel owners and operators. The purpose of submitting a safety defect report to the Coast Guard is so that the Coast Guard can look into the accuracy of the report and advise manufacturers in repairing defects in their equipment before they become catastrophic defects. The Safety Defect Report is not intended to cause negative financial impact on those entities. Safety defect reporting advances our maritime safety missions by asking vessel operators, and other entities, to report any suspected safety defects to the Coast Guard. The commenter did not give any suggestions on how to improve the collection of information or the form. No changes to this collection have been made at this time as a result of the second comment

Information Collection Request

Title: Recreational Boat Safety Defect Report.

OMB Control Number: 1625-0071.

Summary: The collection of information provides a means for boat owners, law enforcement officers, marine investigators, boat manufacturers and members of the public who believe a recreational boat or piece of associated equipment contains a substantial risk defect or fails to comply with Federal safety standards to report the deficiencies to the Coast Guard for investigation and possible remedy.

Need: Title 46 U.S.C. 4310 gives the Coast Guard the authority to require manufacturers of recreational boats and certain items of associated equipment to notify owners and remedy: (1) Defects that create a substantial risk of personal injury to the public; and (2) failures to comply with applicable Federal safety standards.

Forms: CG-5578, Recreational Boat Safety Defect Report.

Respondents: Recreational boat owners, law enforcement officers, marine investigators, boat manufacturers and members of the public who use, build, enforce safety standards or investigate accidents of recreational boats and designated associated equipment.

Frequency: One time.

Hour Burden Estimate: The estimated burden has decreased from 18 hours to 12 hours a year due to a decrease in the estimated annual number of respondents.

Authority: The Paperwork Reduction Act of 1995; 44 U.S.C. chapter 35, as amended.

Dated: October 8, 2019.
James D. Roppel,
Chief, Office of Information Management, U.S. Coast Guard.

[FR Doc. 2019-22294 Filed 10-10-19; 8:45 am]

BILLING CODE 9110-04-P